COMMISSION ON CIVIL RIGHTS

Notice of Public Meeting of the Nebraska Advisory Committee To Discuss Memorandum on Civil Rights and State Level Immigration Enforcement

AGENCY: U.S. Commission on Civil Rights.

ACTION: Notice of meeting.

SUMMARY: Notice is hereby given, pursuant to the provisions of the rules and regulations of the U.S. Commission on Civil Rights (Commission) and the Federal Advisory Committee Act that the Nebraska Advisory Committee (Committee) will hold a meeting on Monday March 21, 2016, at 1:00 p.m. CST for the purpose of discussing and voting on approval of an advisory memorandum regarding the civil rights impact of the State's 2009 Legislative Bill 403, which requires immigration status verification for public benefits applicants, and federal employment authorization verification for all state employees and their contractors.

Members of the public can listen to the discussion. This meeting is available to the public through the following toll-free call-in number: 888-395-3227, conference ID: 2406147. Any interested member of the public may call this number and listen to the meeting. An open comment period will be provided at the end of the meeting to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office within 30 days following the meeting. Written comments may be mailed to the Midwestern Regional Office, U.S. Commission on Civil Rights, 55 W. Monroe St., Suite 410, Chicago, IL 60615. They may also be faxed to the Commission at (312) 353-8324, or emailed to Corrine Sanders at csanders@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Nebraska Advisory Committee link: http://facadatabase.gov/committee/meetings.aspx?cid=260. Click on “meeting details” and then “documents” to download. Persons interested in the work of this Committee are directed to the Commission's Web site, http://www.usccr.gov, or may contact the Midwestern Regional Office at the above email or street address.

Agenda

Welcome and Introductions

Discussion of Advisory Memorandum

Future plans and actions

Public Comment

Adjournment

DATES: The meeting will be held on Monday March 21, 2016 at 1 p.m. Central.

Public Call Information

Dial: 888-395-3227.

Conference ID: 2406147.

Exceptional Circumstance: Pursuant to 41 CFR 102-3.150, the notice for this meeting is given less than 15 calendar days prior to the meeting because of the exceptional circumstances of technical difficulties. Given the exceptional urgency of the events, the agency and advisory committee deem it important for the advisory committee to meet on the date given.

Dated: March 8, 2016.
David Mussatt,
Chief, Regional Programs Unit.

[FR Doc. 2016-05617 Filed 3-11-16; 8:45 am]

BILLING CODE 6335-01-P